DEPARTMENT OF HEALTH AND HUMAN SERVICES

Administration for Children and Families

Office of Administration; Matching Requirements on Grants Awarded Under Children's Bureau Funding Opportunity Announcement for Fiscal Year 2010

AGENCY: Division of Grants Policy, Office of Financial Services, Office of Administration, Administration for Children and Families (ACF), Department of Health and Human Services (HHS).

ACTION: Notice.

CFDA Number: 93.648.

Legislative Authority: Section 426 of the Social Security Act [42 U.S.C. 626(a)(2)].

SUMMARY: The Administration for Children and Families (ACF) hereby gives notice to the public that the following program within the Agency will administratively impose a matching requirement on grants awarded under the following program title and funding opportunity announcement for Fiscal Year 2010:

Program office | Funding opportunity number | Funding opportunity title | Fiscal year | Program title | CFDA number | Match percentage | Composition of match
Administration for Children, Youth and Families—Children's Bureau | HHS-2010-ACF-ACYF-CA-0022 | Initiative to Reduce Long-Term Foster Care | 2010 | Child Welfare Training | 93.648 | 10 percent of Total Approved Project Cost | Cash and In-Kind.

Historically, ACF has found that the imposition of a matching requirement on awards under certain programs result in an increased level of community support and, often, a higher profile in the community. This can contribute to the success and sustainability of the project. The Fiscal Year 2010 funding opportunity announcement for the Initiative to Reduce Long-Term Foster Care program will advise applicants on the percentage of funds that must be contributed through non-Federal resources, the composition of the match, and whether the merit of the match will be taken into consideration as a criterion in the competitive review. The administratively imposed matching requirement will apply only to new grants and their continuation grants, awarded under funding opportunity announcement HHS-2010-ACF-ACYF-CA-0022.

This matching requirement does not represent an addition to any existing matching requirements on awards made under other funding opportunity announcements issued in Fiscal Year 2008 or before. The amount and acceptable types of non-Federal resources allowed is not negotiable. However, matching may be provided as direct or indirect costs. Specific information related to the matching requirement and the competitive review process will be provided in the published funding opportunity announcement. Any unmatched Federal funds will be disallowed. Costs borne by matching contributions are subject to the regulations governing allowability found under 45 CFR 74.23 and 45 CFR 92.24.

Notices of planned grant opportunities proposed by HHS's Operating Divisions are available at the HHS Forecast Web site. Each Forecast record contains actual or estimated dates and funding levels for grants that the agency intends to award during the fiscal year. Additional details about ACF planned FY 2010 funding opportunity announcements can be found on the Grants Forecast Web site at http://www.hhs.gov/grantsforecast/.

Published ACF funding opportunity announcements are available on http://www.Grants.gov and on the ACF Grant Opportunities Web page at http://www.acf.hhs.gov/grants/index.html.

FOR FURTHER INFORMATION CONTACT: Karen Shields, Grants Policy Specialist, Office of Administration, Division of Grants Policy, 370 L'Enfant Promenade, SW., 6th Floor East, Washington, DC 20447, or by telephone at 202-401-5112 or karen.shields@acf.hhs.gov.

February 24, 2010.
Tony Hardy,
Acting Deputy Assistant Secretary for Administration, Administration for Children and Families.

[FR Doc. 2010-12826 Filed 5-27-10; 8:45 am]

BILLING CODE 4184-01-P